ENVIRONMENTAL PROTECTION AGENCY

[EPA-HQ-OPP-2003-0200; FRL-9917-19]

Fenamiphos; Amendment to Existing Stocks Provision of Use Deletion and Product Cancellation Order

AGENCY: Environmental Protection Agency (EPA).

ACTION: Notice.

SUMMARY: EPA issued a notice in the Federal Register of October 5, 2011, concerning an amendment to the use deletion and product cancellation order for the pesticide fenamiphos. This amendment followed a July 13, 2011 Federal Register Notice of Receipt of Request to Amend Use Deletion and Product Cancellation Order. The October 5, 2011 amendment to the cancellation order extended the deadline for persons other than the registrant to sell and distribute nemacur 3 emulsifiable systemic insecticide-nematicide (EPA reg. no. 264-731) for 1-year, until October 5, 2012, and established an end-use date for existing stocks of all fenamiphos products of October 6, 2014. However, on August 5, 2014, the Agency received a request from the Golf Course Superintendents Association of America (GCSAA) to allow the continued use of existing fenamiphos stocks past the October 6, 2014, deadline in light of the stocks that remain in users' hands and the reported lack of effective alternatives to treat nematode infestations on established turf. Today's notice amends only the existing stocks provision of the October 5, 2011, amended cancellation order, providing an additional 3 years, until October 6, 2017, to use existing stocks of all fenamiphos products.

FOR FURTHER INFORMATION CONTACT: Tracy L. Perry, Pesticide Re-evaluation Division (7508P), Office of Pesticide Programs, Environmental Protection Agency, 1200 Pennsylvania Ave. NW., Washington, DC 20460-0001; telephone number: (703) 308-0128; email address: perry.tracy@epa.gov.

SUPPLEMENTARY INFORMATION:

I. General Information

A. Does this action apply to me?

The Agency included in the October 5, 2011 Federal Register notice a list of those who may be potentially affected by this action.

B. How can I get copies of this document and other related information?

The docket for this action, identified by docket identification (ID) number EPA-HQ-OPP-2003-0200, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What are the terms of the amended cancellation order?

This notice announces the amendment of the December 10, 2003, use deletion and cancellation order of fenamiphos products registered under section 3 of the Federal Insecticide, Fungicide, and Rodenticide Act (FIFRA), as amended on June 11, 2008, December 10, 2008, and October 5, 2011. In the October 5, 2011 amendment to the use deletion and product cancellation order of fenamiphos, the Agency announced that it would prohibit use of existing stocks of all fenamiphos products after October 6, 2014. Today's notice changes the end-use date from October 6, 2014, to October 6, 2017. In GCSAA's request to extend the end-use date, they report that, according to the registrant at the time, Bayer Corporation, golf courses purchased the majority of fenamiphos stocks produced during the last year of the phase out in 2008. Golf course owners reportedly purchased a 10-year supply of fenamiphos, in many cases, as there was not a viable alternative to fenamiphos for use on turf and it was forecasted to take many years of research to identify one. The Agency established an end-use date in its October 5, 2011 amendment as the use of existing stocks had continued for an extended period since the last comprehensive risk assessment, which was completed for the 2002 Fenamiphos Reregistration Eligibility Decision. While this fact still holds true, the Agency was not aware of the volume of inventory in the hands of golf course owners at the time of the October 5, 2011, amendment. The Agency concludes that the more cost-effective and efficient option to exhaust the remaining stocks is to use the stocks as directed on product labeling rather than transporting hazardous substances over potentially lengthy distances to a pesticide disposal facility.

EPA hereby modifies the cancellation order of the December 10, 2003, use deletion and cancellation order of fenamiphos products, as amended on June 11, 2008, December 10, 2008, and October 5, 2011, to permit the use of existing stocks until October 6, 2017. Any use of such products must be in accordance with all terms of the previously-approved labeling. The distribution and sale provisions of the October 5, 2011, order remain unchanged and, therefore, any distribution or sale of fenamiphos products is prohibited, except for purposes of proper disposal or export consistent with FIFRA section 17.

Authority: 7 U.S.C. 136 et seq.

Dated: September 24, 2014.
Richard P. Keigwin, Jr.,
Director, Pesticide Re-evaluation Division, Office of Pesticide Programs.

[FR Doc. 2014-23397 Filed 9-30-14; 8:45 am]

BILLING CODE 6560-50-P